DEPARTMENT OF TRANSPORTATION

Federal Aviation Administration

14 CFR Part 39

[Docket No. FAA-2017-1099; Product Identifier 2017-NM-093-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 767-200 and -300 series airplanes. This proposed AD was prompted by a report of two cracks at a certain frame inner chord. This proposed AD would require a detailed inspection for any material review board (MRB) filler installed in the area from the frame web to the stub-beam fitting at certain stations to determine if the filler extends above the frame-to-stub-beam joint, and applicable on-condition actions. We are proposing this AD to address the unsafe condition on these products.

DATES: We must receive comments on this proposed AD by January 22, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; Internet https://www.myboeingfleet.com. You may view this referenced service information at the FAA, Transport Standards Branch, 1601 Lind Avenue SW., Renton, WA. For information on the availability of this material at the FAA, call 425-227-1221. It is also available on the Internet at http://www.regulations.gov by searching for and locating Docket No. FAA-2017-1099.

Examining the AD Docket

You may examine the AD docket on the Internet at http://www.regulations.gov by searching for and locating Docket No. FAA-2017-1099; or in person at the Docket Management Facility between 9 a.m. and 5 p.m., Monday through Friday, except Federal holidays. The AD docket contains this NPRM, the regulatory evaluation, any comments received, and other information. The street address for the Docket Office (phone: 800-647-5527) is in the ADDRESSES section. Comments will be available in the AD docket shortly after receipt.

FOR FURTHER INFORMATION CONTACT: Wayne Lockett, Aerospace Engineer, Airframe Section, FAA, Seattle ACO Branch, 1601 Lind Avenue SW., Renton, WA 98057-3356; phone: 425-917-6447; fax: 425-917-6590; email: wayne.lockett@faa.gov.

SUPPLEMENTARY INFORMATION:

Comments Invited

We invite you to send any written relevant data, views, or arguments about this proposal. Send your comments to an address listed under the ADDRESSES section. Include “Docket No. FAA-2017-1099; Product Identifier 2017-NM-093-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this proposed AD.

Discussion

We have received a report of a crack on the transition radius of the station (STA) 883.5 frame inner chord and an additional crack indication at a fastener hole in the frame inner chord common to a MRB filler that extended above the frame-to-stub-beam joint. Extending the MRB filler above the frame-to-stub-beam joint changes the critical fastener location. For this configuration of the overwing frame-to-stub-beam joint, the upper-lobe-interior-structural and internal zonal (general visual) inspections in the existing baseline maintenance program together with supplemental structural inspections of the overwing stub frames are not adequate to reliably detect a crack in the frame inner chord before the crack grows to a critical length. This condition, if not corrected, could result in the inability of one or more overwing stub frames between STA 808 and STA 933, each a principal structural element, to sustain limit load, which could adversely affect the structural integrity of the airplane.

Related Service Information Under 1 CFR Part 51

We reviewed Boeing Alert Requirements Bulletin 767-53A0278 RB, dated June 30, 2017. The service information describes procedures for a detailed inspection for any MRB filler installed in the area from the frame web to the stub-beam fitting on the left and right side at STA 859.5, 883.5, and 903.5 to determine if the filler extends above the frame-to-stub-beam joint, and applicable on-condition actions. The applicable on-condition actions include repetitive surface high frequency eddy current inspections and repair for cracking in the frame inner chord around the end fastener common to each affected MRB filler. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would require accomplishment of the actions identified in the Boeing Alert Requirements Bulletin 767-53A0278 RB, dated June 30, 2017, described previously, except for any differences identified as exceptions in the regulatory text of this proposed AD.

For information on the procedures and compliance times, see this service information at http://www.regulations.gov by searching for and locating Docket No. FAA-2017-1099.

Explanation of Requirements Bulletin

The FAA worked in conjunction with industry, under the Airworthiness Directive Implementation Aviation Rulemaking Committee (AD ARC), to enhance the AD system. One enhancement is a process for annotating which steps in the service information are “required for compliance” (RC) with an AD. Boeing has implemented this RC concept into Boeing service bulletins.

In an effort to further improve the quality of ADs and AD-related Boeing service information, a joint process improvement initiative was worked between the FAA and Boeing. The initiative resulted in the development of a new process in which the service information more clearly identifies the actions needed to address the unsafe condition in the “Accomplishment Instructions.” The new process results in a Boeing Requirements Bulletin, which contains only the actions needed to address the unsafe condition (i.e., only the RC actions).

Differences Between This Proposed AD and the Service Information

Airplanes in Group 1, Configuration 1, and Group 2, Configuration 1, as identified in Boeing Alert Requirements Bulletin 767-53A0278 RB, dated June 30, 2017, may be modified to a freighter configuration per certain supplemental type certificates. For the modified airplanes, in lieu of accomplishing the actions specified in Boeing Alert Requirements Bulletin 767-53A0278 RB, dated June 30, 2017, for Group 1, Configuration 1, and Group 2, Configuration 1, the actions specified in Boeing Alert Requirements Bulletin 767-53A0278 RB, dated June 30, 2017, for Group 1, Configuration 2, and Group 2, Configuration 2, as applicable, must be done. We have coordinated this difference with Boeing.

Costs of Compliance

We estimate that this proposed AD affects 51 airplanes of U.S. registry. We estimate the following costs to comply with this proposed AD:

Estimated Costs for Required Actions
Action | Labor cost | Parts cost | Cost per product | Cost on U.S. operators
Detailed Inspection | 20 work-hours × $85 per hour = $1,700 | $0 | $1,700 | $86,700

We estimate the following costs to do any necessary on-condition actions that would be required. We have no way of determining the number of aircraft that might need these on-condition actions:

Estimated Costs of On-Condition Inspections
Labor cost | Parts cost | Cost per product
3 work-hours × $85 per hour = $255 per inspection cycle | $0 | $255 per inspection cycle.

We have received no definitive data that would enable us to provide cost estimates for the on-condition repairs specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2017-1099; Product Identifier 2017-NM-093-AD.

(a) Comments Due Date

We must receive comments by January 22, 2018.

(b) Affected ADs

None.

(c) Applicability

This AD applies to The Boeing Company Model 767-200 and -300 series airplanes, as identified in Boeing Alert Requirements Bulletin 767-53A0278 RB, dated June 30, 2017, certificated in any category.

(d) Subject

Air Transport Association (ATA) of America Code 53, Fuselage.

(e) Unsafe Condition

This AD was prompted by a report of a crack on the transition radius of the station (STA) 883.5 frame inner chord and an additional crack indication at a fastener hole in the frame inner chord common to a material review board (MRB) filler that extended above the frame-to-stub-beam joint. We are issuing this AD to detect and correct cracking of the frame inner chord, which could result in the inability of one or more overwing stub frames between STA 808 and STA 933, each a principal structural element, to sustain limit load; this condition could adversely affect the structural integrity of the airplane.

(f) Compliance

Comply with this AD within the compliance times specified, unless already done.

(g) Required Actions

Except as required by paragraph (h) of this AD: At the applicable times specified in the “Compliance” paragraph of Boeing Alert Requirements Bulletin 767-53A0278 RB, dated June 30, 2017, do all applicable actions identified in, and in accordance with, the Accomplishment Instructions of Boeing Alert Requirements Bulletin 767-53A0278 RB, dated June 30, 2017.

Note 1 to paragraph (g) of this AD: Guidance for accomplishing the actions required by this AD can be found in Boeing Alert Service Bulletin 767-53A0278, dated June 30, 2017, which is referred to in Boeing Alert Requirements Bulletin 767-53A0278 RB, dated June 30, 2017.

(h) Exceptions to Service Information Specifications

(1) For purposes of determining compliance with the requirements of this AD, the phrase “the effective date of this AD” may be substituted for “the original issue date of Requirements Bulletin 767-53A0278 RB” as specified in Boeing Alert Requirements Bulletin 767-53A0278 RB, dated June 30, 2017.

(2) Where Boeing Alert Requirements Bulletin 767-53A0278 RB, dated June 30, 2017, specifies contacting Boeing, this AD requires repair using a method approved in accordance with the procedures specified in paragraph (i) of this AD.

(3) For airplanes identified as Group 1, Configuration 1, in Boeing Alert Requirements Bulletin 767-53A0278 RB, dated June 30, 2017, that have been modified to a freighter configuration: The actions specified in Boeing Alert Requirements Bulletin 767-53A0278 RB, dated June 30, 2017, for Group 1, Configuration 2, must be done instead of the actions for Group 1, Configuration 1, except as required by paragraph (h)(2) of this AD.

(4) For airplanes identified as Group 2, Configuration 1, in Boeing Alert Requirements Bulletin 767-53A0278 RB, dated June 30, 2017, that have been modified to a freighter configuration: The actions specified in Boeing Alert Requirements Bulletin 767-53A0278 RB, dated June 30, 2017, for Group 2, Configuration 2, must be done instead of the actions for Group 2, Configuration 1, except as required by paragraph (h)(2) of this AD.

(i) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, to make those findings. To be approved, the repair method, modification deviation, or alteration deviation must meet the certification basis of the airplane, and the approval must specifically refer to this AD.

(j) Related Information

(1) For more information about this AD, contact Wayne Lockett, Aerospace Engineer, Airframe Section, FAA, Seattle ACO Branch, 1601 Lind Avenue SW., Renton, WA 98057-3356; phone: 425-917-6447; fax: 425-917-6590; email: wayne.lockett@faa.gov.

(2) For service information identified in this AD, contact Boeing Commercial Airplanes, Attention: Contractual & Data Services (C&DS), 2600 Westminster Blvd., MC 110-SK57, Seal Beach, CA 90740-5600; telephone 562-797-1717; Internet https://www.myboeingfleet.com. You may view this referenced service information at the FAA, Transport Standards Branch, 1601 Lind Avenue SW., Renton, WA. For information on the availability of this material at the FAA, call 425-227-1221.

Issued in Renton, Washington, on November 27, 2017.
Jeffrey E. Duven,
Director, System Oversight Division, Aircraft Certification Service.

[FR Doc. 2017-26193 Filed 12-5-17; 8:45 am]

BILLING CODE 4910-13-P